FEDERAL MARITIME COMMISSION

[Docket No. 02-04]

Anchor Shipping Co. v. Alianca Navegacao e Logistica LTDA.; Notice of Filing of Complaint and Assignment

Notice is given that a complaint has been filed with the Federal Maritime Commission (“Commission”) by Anchor Shipping Co. (“Complainant”) against Alianca Navegacao E Logistica Ltda. (“Alianca”).

Complainant contends that Alianca engaged in a number of activities in connection with a service contract which violated sections 10(a)(2), 10(a)(3), 10(b)(3) and 10(c)(1) of the Shipping Act of 1984 (“Shipping Act”) and injured the Complainant.

Complainant asks that Alianca be compelled to answer its charges and that the Commission issue an order commanding Alianca to cease and desist from these violations; to establish and put in force such practices the Commission determines to be lawful and reasonable; to pay Complainant $1,000,000 in reparations, with interest and attorney's fees, or such other sum as the Commission may determine to be proper as an award of reparation; and such other further order as the Commission determines proper. Complainant requests that hearing be held in Miami, FL.

This proceeding has been assigned to the office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by March 13, 2003, and the final decision of the Commission shall be issued by July 11, 2003.

Bryant L. VanBrakle,
Secretary.

[FR Doc. 02-6218 Filed 3-14-02; 8:45 am]

BILLING CODE 6730-01-P